DEPARTMENT OF ENERGY

Federal Energy Regulatory Commission

[Docket No. CP12-507-000; Docket No. CP12-508-000]

Corpus Christi Liquefaction, LLC, Cheniere Corpus Christi Pipeline, LP; Notice of Availability of the Final Environmental Impact Statement for the Proposed Corpus Christi Lng Project

The staff of the Federal Energy Regulatory Commission (FERC or Commission) has prepared a final environmental impact statement (EIS) for the Corpus Christi LNG Project (Project), proposed by Corpus Christi Liquefaction, LLC and Cheniere Corpus Christi Pipeline, LP (collectively Cheniere) in the above-referenced dockets. Cheniere requests authorization to construct and operate the facilities necessary to import, export, store, vaporize, and liquefy natural gas and deliver the resulting product either into existing interstate and intrastate natural gas pipelines in the Corpus Christi area, or export liquefied natural gas (LNG) elsewhere. The Project liquefaction facilities would enable Cheniere to export LNG equivalent to approximately 2.1 billion standard cubic feet (Bscf) per day of natural gas, and the vaporization facilities would enable Cheniere to sendout approximately 400 million standard cubic feet (MMscf) per day of natural gas into its proposed pipeline system.

The final EIS assesses the potential environmental effects of the construction and operation of the Project in accordance with the requirements of the National Environmental Policy Act (NEPA). The FERC staff concludes that approval of the proposed Project, with the mitigation measures recommended in the EIS, would ensure that impacts in the Project area would be avoided or minimized and would not be significant. Construction and operation of the Project would result in mostly temporary and short-term environmental impacts; however, some long-term and permanent environmental impacts would occur.

The U.S. Army Corps of Engineers (COE), U.S. Coast Guard, U.S. Department of Energy (DOE), U.S. Environmental Protection Agency (EPA), and U.S. Department of Transportation (DOT) participated as cooperating agencies in the preparation of the EIS. Cooperating agencies have jurisdiction by law or special expertise with respect to resources potentially affected by the proposal and participate in the NEPA analysis. The U.S. Coast Guard, EPA, and DOT cooperated in the preparation of this EIS because of their special expertise with respect to resources potentially affected by the proposal.

Although the cooperating agencies provide input to the conclusions and recommendations presented in the final EIS, the agencies will present their own conclusions and recommendations in their respective Records of Decision or determinations for the Project.

The final EIS addresses the potential environmental effects of the construction and operation of the following Project facilities:

• Liquefaction facilities, including three liquefaction trains each capable of liquefying approximately 700 MMscf per day of natural gas;

• vaporization facilities, including two trains of ambient air vaporizers and send out pumps each capable of vaporizing sufficient LNG volume for each to send out approximately 200 MMscf per day of natural gas;

• LNG storage facilities, including three LNG storage tanks each capable of storing LNG equivalent to approximately 3.4 Bscf of natural gas;

• marine terminal with two LNG carrier berths;

• 23 miles of 48-inch-diameter pipeline;

• one 41,000 horsepower compressor station and one 12,260 horsepower compressor station; and

• ancillary facilities.

The FERC staff mailed copies of the final EIS to federal, state, and local government representatives and agencies; elected officials; environmental and public interest groups; Native American tribes; potentially affected landowners and other interested individuals and groups; newspapers and libraries in the Project area; and parties to this proceeding. Everyone on our environmental mailing list will receive a CD version of the final EIS. In addition, the final EIS is available for public viewing on the FERC's Web site (www.ferc.gov) using the eLibrary link. A limited number of copies are available for distribution and public inspection at: Federal Energy Regulatory Commission, Public Reference Room, 888 First Street NE., Room 2A, Washington, DC 20426, (202) 502-8371.

Questions?

Additional information about the Project is available from the Commission's Office of External Affairs, at (866) 208-FERC, or on the FERC Web site (www.ferc.gov) using the eLibrary link. Click on the eLibrary link, click on “General Search,” and enter the docket number excluding the last three digits in the Docket Number field (i.e., CP12-507 and CP12-508). Be sure you have selected an appropriate date range. For assistance, please contact FERC Online Support at FercOnline Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/docs-filing/esubscription.asp.

Dated: October 8, 2014.
Kimberly D. Bose,
Secretary.

[FR Doc. 2014-24550 Filed 10-15-14; 8:45 am]

BILLING CODE 6717-01-P